PRESIDIO TRUST

Notice of Public Meeting

AGENCY: The Presidio Trust.

ACTION: Notice of public meeting.

SUMMARY: In accordance with section 103(c)(6) of the Presidio Trust Act, 16 U.S.C. 460bb appendix, and in accordance with the Presidio Trust's bylaws, notice is hereby given that a public meeting of the Presidio Trust Board of Directors will be held commencing 6:30 p.m. on Thursday, May 14, 2015, at the Observation Post, 211 Lincoln Boulevard, Presidio of San Francisco, California. The Presidio Trust was created by Congress in 1996 to manage approximately eighty percent of the former U.S. Army base known as the Presidio, in San Francisco, California.

The purposes of this meeting are to take action on the minutes of previous Board meetings, to provide the Chairperson's report, to provide the Executive Director's report, to provide a partner report, to present “Strategy 2020,” to provide an update on the New Presidio Parklands Project, to take action on a budget adjustment, and to receive public comment in accordance with the Trust's Public Outreach Policy. Individuals requiring special accommodation at this meeting, such as needing a sign language interpreter, should contact Mariella deMey at 415.561.5300 prior to May 7, 2015.

DATES: The meeting will begin at 6:30 p.m. on Thursday, May 14, 2015.

ADDRESSES: The meeting will be held at the Observation Post, 211 Lincoln Boulevard, Presidio of San Francisco.

FOR FURTHER INFORMATION CONTACT: Karen Cook, General Counsel, the Presidio Trust, 103 Montgomery Street, P.O. Box 29052, San Francisco, California 94129-0052, Telephone: 415.561.5300.

Dated: April 13, 2015.
Karen A. Cook,
General Counsel.

[FR Doc. 2015-08920 Filed 4-16-15; 8:45 am]

BILLING CODE 4310-4R-P